DEPARTMENT OF HOMELAND SECURITY

Federal Emergency Management Agency

[Docket ID FEMA-2019-0002; Internal Agency Docket No. FEMA-B-1964]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Arizona:
Maricopa | City of Glendale (19-09-1678P) | The Honorable Jerry Weiers, Mayor, City of Glendale, 5850 West Glendale Avenue, Glendale, AZ 85301 | City Hall, 5850 West Glendale Avenue, Glendale, AZ 85301 | https://msc.fema.gov/portal/advanceSearch | Jan. 3, 2020 | 040045
Maricopa | City of Goodyear (19-09-1678P) | The Honorable Georgia Lord, Mayor, City of Goodyear, 190 North Litchfield Road, Goodyear, AZ 85338 | Engineering and Development Services, 14455 West Van Buren Street, Suite D101, Goodyear, AZ 85338 | https://msc.fema.gov/portal/advanceSearch | Jan. 3, 2020 | 040046
Maricopa | Unincorporated Areas of Maricopa County (19-09-1678P) | The Honorable Bill Gates, Chairman, Board of Supervisors, Maricopa County, 301 West Jefferson Street, 10th Floor, Phoenix, AZ 85003 | Flood Control District of Maricopa County, 2801 West Durango Street, Phoenix, AZ 85009 | https://msc.fema.gov/portal/advanceSearch | Jan. 3, 2020 | 040037
California:
Riverside | City of Cathedral City (19-09-0367P) | The Honorable Mark Carnevale, Mayor, City of Cathedral City, 68700 Avenida Lalo Guerrero, Cathedral City, CA 92234 | Engineering Department, 68-700 Avenida Lalo Guerrero, Cathedral City, CA 92234 | https://msc.fema.gov/portal/advanceSearch | Jan. 3, 2020 | 060704
Riverside | City of Palm Springs (19-09-0367P) | The Honorable Robert Moon, Mayor, City of Palm Springs, 3200 East Tahquitz Canyon Way, Palm Springs, CA 92262 | Public Works and Engineering Department, 3200 East Tahquitz Canyon Way, Palm Springs, CA 92262 | https://msc.fema.gov/portal/advanceSearch | Jan. 3, 2020 | 060257
Florida: Duval | City of Jacksonville (19-04-2699P) | The Honorable Lenny Curry, Mayor, City of Jacksonville, 117 West Duval Street, Suite 400, Jacksonville, FL 32202 | Edward Ball Building Development Services, Room 2100, 214 North Hogan Street, Jacksonville, FL 32202 | https://msc.fema.gov/portal/advanceSearch | Dec. 27, 2019 | 120077
Hawaii:
Hawaii | Hawaii County (19-09-0188P) | The Honorable Harry Kim, Mayor, Hawaii County, 25 Aupuni Street, Suite 2603, Hilo, HI 96720 | Hawaii County Department of Public Works, Engineering Division, 101 Pauahi Street, Suite 7, Hilo, HI 96720 | https://msc.fema.gov/portal/advanceSearch | Jan. 10, 2020 | 155166
Maui | Maui County (19-09-0247P) | The Honorable Michael P. Victorino, Mayor, County of Maui, 200 South High Street, Kalana O Maui Building 9th Floor, Wailuku, HI 96793 | County of Maui Planning Department, 2200 Main Street, Suite 315, Wailuku, HI 96793 | https://msc.fema.gov/portal/advanceSearch | Jan. 8, 2020 | 150003
Kansas:
Johnson | City of Lenexa (19-07-0874P) | The Honorable Michael Boehm, Mayor, City of Lenexa, 17101 West 87th Street Parkway, Lenexa, KS 66219 | City Hall, 12350 West 87th Street Parkway, Lenexa, KS 66215 | https://msc.fema.gov/portal/advanceSearch | Jan. 15, 2020 | 200168
Johnson | City of Overland Park (19-07-0057P) | The Honorable Carl Gerlach, Mayor, City of Overland Park, 8500 Santa Fe Drive, Overland Park, KS 66212 | City Hall, 8500 Santa Fe Drive, Overland Park, KS 66212 | https://msc.fema.gov/portal/advanceSearch | Jan. 8, 2020 | 200174
Johnson | City of Prairie Village (19-07-0057P) | The Honorable Erik Mikkelson, Mayor, City of Prairie Village, 7700 Mission Road, Prairie Village, KS 66208 | City Hall, 7700 Mission Road, Prairie Village, KS 66208 | https://msc.fema.gov/portal/advanceSearch | Jan. 8, 2020 | 200175
Missouri: Jackson | City of Lee's Summit (19-07-1150P) | The Honorable Bill Baird, Mayor, City of Lee's Summit, 220 Southeast Green Street, Lee's Summit, MO 64063 | Department of Public Works, 220 Southeast Green Street, Lee's Summit, MO 64063 | https://msc.fema.gov/portal/advanceSearch | Jan. 2, 2020 | 290174
New York: Essex | Town of Willsboro (19-02-0483P) | Mr. Shaun Gillilland, Town Supervisor, Town of Willsboro, 5 Farrell Road, Willsboro, NY 12996 | Town Hall, 5 Farrell Road, Willsboro, NY 12996 | https://msc.fema.gov/portal/advanceSearch | Feb. 5, 2020 | 360267
Ohio: Butler | City of Monroe (18-05-4114P) | The Honorable Robert E. Routson, Mayor, City of Monroe, P.O. Box 330, Monroe, OH 45050 | Village Hall, 233 South Main Street, Monroe, OH 45050 | https://msc.fema.gov/portal/advanceSearch | Jan. 2, 2020 | 390042
Oregon: Lane | Unincorporated Areas of Lane County (19-10-0523P) | Mr. Jay Bozievich, Commissioner, Lane County, Lane County Public Service Building, 125 East 8th Street, Eugene, OR 97401 | Lane County Planning Department, Public Service Building, 125 East 8th Street, Eugene, OR 97401 | https://msc.fema.gov/portal/advanceSearch | Jan. 10, 2020 | 415591
Washington: Mason | Unincorporated Areas of Mason County (19-10-1106P) | Mr. Kevin Shutty, County Commissioner, Mason County, 411 North 5th Street, Shelton, WA 98584 | Mason County Public Works, 100 West Public Works Drive, Shelton, WA 98584 | https://msc.fema.gov/portal/advanceSearch | Jan. 10, 2020 | 530115

[FR Doc. 2019-21758 Filed 10-4-19; 8:45 am]

BILLING CODE P